DEPARTMENT OF HEALTH AND HUMAN SERVICES

National Institutes of Health

National Library of Medicine; Amended Notice of Meeting

Notice is hereby given of a change in the meeting of the Board of Scientific Counselors, National Library of Medicine, October 14, 2004, 9 a.m. to October 14, 2004, 5 p.m., National Library of Medicine, Building 38, 2nd Floor, Board Room, 8600 Rockville Pike, Bethesda, MD 20892 which was published in the Federal Register on August 10, 2004, 69 FR 161.

The meeting will be held on October 19, 2004, which is changed from the previous date of October 14, 2004. The meeting is partially Closed to the public.

Dated: October 14, 2004.
LaVerne Y. Stringfield,
Director, Office of Federal Advisory Committee Policy.

[FR Doc. 04-23653 Filed 10-21-04; 8:45 am]

BILLING CODE 4140-01-M